RAILROAD RETIREMENT BOARD

20 CFR Ch. II

Semiannual Agenda of Regulations Under Development or Review

AGENCY: Railroad Retirement Board.

ACTION: Semiannual regulatory agenda.

SUMMARY: This agenda contains a list of regulations that the Board is developing or proposes to develop in the next 12 months and regulations that are scheduled to be reviewed in that period.

ADDRESSES: 844 North Rush Street, Chicago, IL 60611-1275.

FOR FURTHER INFORMATION CONTACT: Marguerite P. Dadabo, Assistant General Counsel, Office of General Counsel, Railroad Retirement Board, (312) 751-4945, Fax (312) 751-7102, TDD (312) 751-4701.

SUPPLEMENTARY INFORMATION: Regulations that are routine in nature or which pertain solely to internal Agency management have not been included in the agenda.

Dated: March 17, 2021.
By Authority of the Board.
Stephanie Hillyard,
Secretary to the Board.

Railroad Retirement Board—Final Rule Stage
Sequence No. | Title | Regulation Identifier No.
226 | Enforcement of Nondiscrimination on the Basis of Handicap in Programs or Activities Conducted by the Railroad Retirement Board (Section 610 Review) | 3220-AB73

RAILROAD RETIREMENT BOARD (RRB)

Final Rule Stage

226. Enforcement of Nondiscrimination on the Basis of Handicap in Programs or Activities Conducted by the Railroad Retirement Board (Section 610 Review)

Legal Authority: 29 U.S.C. 794

Abstract: We propose to amend our regulations at 20 CFR 365 to update terminology to refer to individuals with a disability. This amendment replaces the term “handicap” with the term “disability” to match the statutory language in the Rehabilitation Act Amendment of 1992, Public Law 102-569, 106 Stat. 4344.

Timetable:

Action | Date | FR Cite
Direct Final Rule | 10/00/21 |

Regulatory Flexibility Analysis Required: No.

Agency Contact: Marguerite P. Dadabo, Assistant General Counsel, Railroad Retirement Board, Office of General Counsel, 844 North Rush Street, Room 811, Chicago, IL 60611, Phone: 312 751-4945, TDD Phone: 312 751-4701, Fax: 312 751-7102.

RIN: 3220-AB73

[FR Doc. 2021-14884 Filed 7-29-21; 8:45 am]

BILLING CODE 7905-01-P